DEPARTMENT OF EDUCATION

Office of Postsecondary Education; Overview Information; Teachers for a Competitive Tomorrow (TCT): Programs for Master's Degrees in Science, Technology, Engineering, Mathematics, or Critical Foreign Language Education; Notice Inviting Applications for New Awards for Fiscal Year (FY) 2010

Catalog of Federal Domestic Assistance (CFDA) Number: 84.381B.

Dates:

Applications Available: June 30, 2010.

Deadline for Transmittal of Applications: July 30, 2010.

Full Text of Announcement

I. Funding Opportunity Description

Purpose of Program: The purpose of the TCT program is to enable partnerships served by eligible recipients to develop and implement 2- or 3-year part-time master's degree programs in science, technology, engineering, mathematics, or critical foreign language education for teachers in order to enhance the teachers' content knowledge and pedagogical skills; or to develop and implement programs for professionals in science, technology, engineering, mathematics, or critical foreign language education that lead to a master's degree in teaching that results in teacher certification.

Priorities: Under this competition, we are particularly interested in applications that address the following two invitational priorities.

Invitational Priorities: For FY 2010 and any subsequent year in which we make awards from the list of unfunded applicants from this competition, these priorities are invitational priorities. Under 34 CFR 75.105(c)(1), we do not give an application that meets these invitational priorities a competitive or absolute preference over other applications.

These priorities are:

Invitational Priority 1

Under this program, applicants must demonstrate how their proposed projects will improve student achievement in mathematics, science, technology, engineering, or critical foreign languages and increase the number of students taking upper-level courses in such subjects. Under this priority, applicants are encouraged to work with their partner districts or the State educational agency to develop agreements to access student records containing data on assessments and course-taking in mathematics, science, technology, engineering, or critical foreign languages, as applicable, for students taught by teachers who receive master's degrees through programs supported by this grant, and to use this information to assess and improve the effectiveness of their projects in preparing teachers.

Invitational Priority 2

Under this program, applicants must demonstrate how teachers from schools determined by the partnership to be most in need will be encouraged to apply for and participate in the program. Under this priority, applicants proposing to develop two or three-year part-time master's programs in science, technology, engineering, mathematics, or critical foreign language education to enhance the content knowledge of existing teachers are encouraged to describe how they would recruit teachers to participate in the program who are currently teaching these subjects in schools that have been identified by their State as a persistently lowest-achieving school, consistent with the final regulations for the School Improvement Grants program that were published in the Federal Register on January 21, 2010 (75 FR 3375).

Definition

The term “critical foreign language” is defined in 20 U.S.C. 9802(b)(1) as a foreign language that the Secretary determines, in consultation with the heads of such Federal departments and agencies as the Secretary determines appropriate, is critical to the national security and economic competitiveness of the United States. The Secretary has determined that the following languages are critical foreign languages for purposes of this competition and any subsequent year in which we make awards from the list of unfunded applicants from this competition: Arabic, Chinese, Japanese, Korean, Russian, Hindi, Urdu, Persian, and Turkish.

Program Authority: 20 U.S.C. 9811.

Applicable Regulations: The Education Department General Administrative Regulations (EDGAR) in 34 CFR parts 74, 75, 77, 79, 80, 82, 85, 86, 97, 98, and 99.

Note: The regulations in 34 CFR part 79 apply to all applicants except Federally recognized Indian tribes.

Note: The regulations in 34 CFR part 86 apply to institutions of higher education only.

II. Award Information

Type of Award: Discretionary grants.

Estimated Available Funds: $852,888.

Estimated Range of Awards: $200,000-$250,000.

Estimated Average Size of Awards: $213,222.

Maximum Award: We will reject any application that proposes a budget exceeding $250,000 for a single budget period of 12 months. The Assistant Secretary for Postsecondary Education may change the maximum amount through a notice published in the Federal Register.

Estimated Number of Awards: 1-4.

Note: The Department is not bound by any estimates in this notice.

Project Period: Up to 60 months.

III. Eligibility Information

1. Eligible Applicants: An institution of higher education on behalf of a department of science, technology, engineering, mathematics, or a critical foreign language, or on behalf of a department or school with a competency-based degree program (in science, technology, engineering, mathematics, or a critical foreign language) that includes teacher certification. Eligible applicants must enter into a partnership that shall include:

i. The eligible recipient;

ii. (a) A department within the eligible applicant that provides a program of study in science, technology, engineering, mathematics, or a critical foreign language; and (b) a school, department, or program of education within the eligible applicant, or a two-year institution of higher education that has a teacher preparation offering or a dual enrollment program with the eligible applicant; or

iii. A department or school within the eligible applicant with a competency-based degree program (in science, technology, engineering, mathematics, or a critical foreign language) that includes teacher certification; and

iv. Not less than one high-need LEA and a public school or a consortium of public schools served by the agency. A partnership may include a nonprofit organization that has a demonstrated record of providing expertise or support to meet the purposes of this initiative.

2. a. Cost Sharing or Matching: Under 20 U.S.C. 9815(b), each grant recipient must provide, from non-Federal sources, an amount equal to 50 percent of the amount of the grant (which may be provided in cash or in-kind) to carry out the activities supported by the grant.

b. Supplement-Not-Supplant: Under 20 U.S.C. 9815(c), grant funds provided under this program must be used to supplement, and not supplant, other Federal or State funds.

3. Other: Definition of “high-need LEA” and other eligibility information. An eligible applicant must propose a project performed by a partnership that includes one or more “high-need LEAs.” As defined in 20 U.S.C. 9812(3), the term “high-need LEA” is an LEA—

(A)(1) That serves not fewer than 10,000 children from low-income families, or (2) for which not less than 20 percent of the children served by the agency are from low-income families, or (3) with a total of less than 600 students in average daily attendance at the schools that are served by the agency and all of whose schools are designated with a school locale code of 41, 42, or 43, as determined by the Secretary; and

(B)(1) for which there is a high percentage of teachers providing instruction in academic subject areas or grade levels for which the teachers are not highly qualified; or (2) for which there is a high teacher turnover rate or a high percentage of teachers with emergency, provisional, or temporary certification or licensure.

So that the Department may be able to confirm the eligibility of the LEAs participating in the project, we expect applicants to include information in their applications that demonstrates that each participating LEA in the partnership is a high-need LEA, as defined in 20 U.S.C. 9812(3).

Under components (A)(1) and (A)(2) of the statutory definition of high-need LEA, an LEA must show that it serves not fewer than 10,000 children from low-income families or that not less than 20 percent of the children served by the agency are children from low-income families. Under 20 U.S.C 9812(1), the term “children from low-income families” means children described in section 1124(c)(1)(A) of the Elementary and Secondary Education Act of 1965, 20 U.S.C. 6333(c)(1)(A). The eligibility of an LEA as a “high-need LEA” under component (A)(1) or (A)(2) should be based on the most recent U.S. Census Bureau data. U.S. Census Bureau data are available for all school districts with geographic boundaries that existed when the U.S. Census Bureau collected its information. The link to the census data is: http://www.census.gov/hhes/www/saipe/district.html. The Department also makes these data available at its Web site at: http://www.ed.gov/programs/lsl/eligibility.html.

Some LEAs, such as newly formed school districts or charter schools in States that accord them LEA status, are not included in Census Bureau poverty data. Eligibility of these particular LEAs will be determined on a case-by-case basis after review of information in the application that addresses, as well as possible, the number or percentage of children from low-income families these LEAs serve.

The school locale codes referenced in component (A)(3) of the definition of “high-need LEA” are part of a classification system designed to describe a geographic area in which a school is located. Locale codes 41, 42, and 43 relate to rural areas. General information regarding the locale classification system and information regarding the locale codes for specific LEAs is available on the National Center for Education Statistics (NCES) Web site at: http://nces.ed.gov/ccd/rural_locales.asp.

The Department expects that LEAs that rely on component (B)(1) of the definition of “high-need LEA” will demonstrate their eligibility with information regarding the percentage of teachers providing instruction in the academic subject areas or grade levels for which the teachers are not highly qualified in the LEA and the State. The Department will review this aspect of an LEA's proposed eligibility on a case-by-case basis, and would expect that an LEA that meets this component of the definition would have a percentage of its classes taught by teachers who are not highly qualified that exceeds the percentage for the State.

For component (B)(2) of the statutory definition of “high-need LEA,” the data that LEAs likely will find most readily available on the percentage of teachers with emergency, provisional, or temporary certification or licensing are the data they provide to their States for inclusion in the reports on the quality of teacher preparation that the States provide to the Department in October of each year as required by section 207 of the Higher Education Act of 1965, as amended (HEA). In these reports, States provide the percentage of teachers in their LEAs teaching on waivers of State certification, both on a statewide basis and in high-poverty LEAs. As reflected in the State reports the Department most recently received in October 2008, the national average percentage of teachers on waivers in high-poverty LEAs is 1.37 percent.

Under element (B)(2), an LEA may also demonstrate that it is “high-need” by demonstrating that it has a high teacher turnover rate. The Department will review this aspect of an LEA's proposed eligibility on a case-by-case basis, and would expect that an LEA that meets this component of the definition would have a teacher turnover rate that meets or exceeds the average national teacher turnover rate. The most recent data available to the Department indicates that 16 percent of teachers teaching during the 2003-04 school year did not return to teach in the same school the following school year. See Marvel, J., Lyter, D.M., Peltola, P., Strizek, G.A., and Morton, B.A. (2006). Teacher Attrition and Mobility: Results from the 2004-05 Teacher Follow-up Survey (NCES 2007-307). U.S. Department of Education, National Center for Education Statistics. Washington, DC: U.S. Government Printing Office.

IV. Application and Submission Information

1. Address to Request Application Package: You can obtain an application package via the Internet by downloading the package at http://e-Grants.ed.gov.

You also may request a copy of the application package from the following: Andrea Baird, Teachers for a Competitive Tomorrow: Programs for Master's Degrees in Science, Technology, Engineering, Mathematics, or Critical Foreign Language Education, U.S. Department of Education, 1990 K Street, NW., room 6143, Washington, DC 20006-8526. Telephone: (202) 502-7797. E-mail address: andrea.baird@ed.gov.

If you use a telecommunications device for the deaf (TDD), call the Federal Relay Service (FRS), toll-free, at 1-800-877-8339.

Individuals with disabilities can obtain a copy of the application package in an accessible format (e.g., braille, large print, audiotape, or computer diskette) by contacting the program contact person listed in this section.

2. Content and Form of Application Submission: Requirements concerning the content of an application, together with the forms you must submit, are in the application package for this program.

Page Limit: The application narrative is where you, the applicant, address the selection criteria that reviewers use to evaluate your application. You must limit the application narrative [Part III] to no more than 50 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12-point or larger, or no smaller than 10 pitch (characters per inch).

• Use one of the following fonts: Times New Roman, Courier, Courier New, or Arial. An application submitted in any other font (including Times Roman and Arial Narrow) will not be accepted.

The page limit does not apply to the cover sheet; the budget section, including the narrative budget justification; the assurances and certifications; or the one-page abstract, the resumes, the bibliography, or the letters of support.

We will reject your application if you exceed the page limit.

3. Submission Dates and Times:

Applications Available: June 30, 2010.

Deadline for Transmittal of Applications: July 30, 2010.

Applications for grants under this program must be submitted electronically using the Electronic Grant Application system (e-Application) accessible through the Department's e-Grants site. For information (including dates and times) about how to submit your application electronically, or in paper format by mail or hand delivery if you qualify for an exception to the electronic submission requirement, please refer to Section IV. 7. Other Submission Requirements of this notice.

We do not consider an application that does not comply with the deadline requirements.

Individuals with disabilities who need an accommodation or auxiliary aid in connection with the application process should contact the person listed under FOR FURTHER INFORMATION CONTACT in Section VII of this notice. If the Department provides an accommodation or auxiliary aid to an individual with a disability in connection with the application process, the individual's application remains subject to all other requirements and limitations in this notice.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section in this notice.

6. Data Universal Numbering System Number, Taxpayer Identification Number, and Central Contractor Registry: To do business with the Department of Education, (1) You must have a Data Universal Numbering System (DUNS) number and a Taxpayer Identification Number (TIN); (2) you must register both of those numbers with the Central Contractor Registry (CCR), the Government's primary registrant database; and (3) you must provide those same numbers on your application.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

7. Other Submission Requirements: Applications for grants under this program must be submitted electronically unless you qualify for an exception to this requirement in accordance with the instructions in this section.

a. Electronic Submission of Applications.

Applications for grants under the TCT Programs for Master's Degrees in Science, Technology, Engineering, Mathematics, or Critical Foreign Language Education, CFDA number 84.381B, must be submitted electronically using e-Application, accessible through the Department's e-Grants Web site at http://e-Grants.ed.gov.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

While completing your electronic application, you will be entering data online that will be saved into a database. You may not e-mail an electronic copy of a grant application to us.

Please note the following:

• You must complete the electronic submission of your grant application by 4:30:00 p.m., Washington, DC time, on the application deadline date. E-Application will not accept an application for this program after 4:30:00 p.m., Washington, DC time, on the application deadline date. Therefore, we strongly recommend that you do not wait until the application deadline date to begin the application process.

• The hours of operation of the e-Grants Web site are 6:00 a.m. Monday until 7:00 p.m. Wednesday; and 6:00 a.m. Thursday until 8:00 p.m. Sunday, Washington, DC time. Please note that, because of maintenance, the system is unavailable between 8:00 p.m. on Sundays and 6:00 a.m. on Mondays, and between 7:00 p.m. on Wednesdays and 6:00 a.m. on Thursdays, Washington, DC time. Any modifications to these hours are posted on the e-Grants Web site.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications. You must attach any narrative sections of your application as files in a .DOC (document), .RTF (rich text), or .PDF (Portable Document) format. If you upload a file type other than the three file types specified in this paragraph or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the SF 424 to the Application Control Center after following these steps:

(1) Print SF 424 from e-Application.

(2) The applicant's Authorizing Representative must sign this form.

(3) Place the PR/Award number in the upper right hand corner of the hard-copy signature page of the SF 424.

(4) Fax the signed SF 424 to the Application Control Center at (202) 245-6272.

• We may request that you provide us original signatures on other forms at a later date.

Application Deadline Date Extension in Case of e-Application Unavailability: If you are prevented from electronically submitting your application on the application deadline date because e-Application is unavailable, we will grant you an extension of one business day to enable you to transmit your application electronically, by mail, or by hand delivery. We will grant this extension if—

(1) You are a registered user of e-Application and you have initiated an electronic application for this competition; and

(2) (a) E-Application is unavailable for 60 minutes or more between the hours of 8:30 a.m. and 3:30 p.m., Washington, DC time, on the application deadline date; or

(b) E-Application is unavailable for any period of time between 3:30 p.m. and 4:30:00 p.m., Washington, DC time, on the application deadline date.

We must acknowledge and confirm these periods of unavailability before granting you an extension. To request this extension or to confirm our acknowledgment of any system unavailability, you may contact either (1) the person listed elsewhere in this notice under FOR FURTHER INFORMATION CONTACT (See VII. Agency Contact) or (2) the e-Grants help desk at 1-888-336-8930. If e-Application is unavailable due to technical problems with the system and, therefore, the application deadline is extended, an e-mail will be sent to all registered users who have initiated an e-Application. Extensions referred to in this section apply only to the unavailability of e-Application.

Exception to Electronic Submission Requirement: You qualify for an exception to the electronic submission requirement, and may submit your application in paper format, if you are unable to submit an application through e-Application because—

• You do not have access to the Internet; or

• You do not have the capacity to upload large documents to e-Application; and

• No later than two weeks before the application deadline date (14 calendar days; or, if the fourteenth calendar day before the application deadline date falls on a Federal holiday, the next business day following the Federal holiday), you mail or fax a written statement to the Department, explaining which of the two grounds for an exception prevents you from using the Internet to submit your application. If you mail your written statement to the Department, it must be postmarked no later than two weeks before the application deadline date. If you fax your written statement to the Department, we must receive the faxed statement no later than two weeks before the application deadline date.

Address and mail or fax your statement to: Andrea Baird, U.S. Department of Education, 1990 K Street, NW., room 6143, Washington, DC 20006-8526. FAX: (202) 502-7699.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address:

U.S. Department of Education, Application Control Center, Attention: (CFDA Number 84.381B), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application, by hand, on or before the application deadline date, to the Department at the following address:

U.S. Department of Education, Application Control Center, Attention: (CFDA Number 84.381B), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this grant notification within 15 business days from the application deadline date, you should call the U.S. Department of Education Application Control Center at (202) 245-6288.

V. Application Review Information

Selection Criteria: The selection criteria for this program are from section 6114 of the America COMPETES Act, 20 U.S.C. 9814, and from 34 CFR 75.209(a) and 75.210 of EDGAR and are described in the application package.

VI. Award Administration Information

1. Award Notices: If your application is successful, we will notify your U.S. Representative and U.S. Senators and send you a Grant Award Notice (GAN). We may notify you informally, also.

If your application is not evaluated or not selected for funding, we will notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary in 34 CFR 75.118. The Secretary may also require more frequent performance reports under 34 CFR 75.720(c). For specific requirements on reporting, please review section 6114(d) of the America COMPETES Act, 20 U.S.C. 9814(d), and go to: http://www.ed.gov/fund/grant/apply/appforms/appforms.html.

4. Performance Measures: The objective of the TCT Programs for Master's Degrees in Science, Technology, Engineering, Mathematics, or Critical Foreign Language Education is to train program participants as highly qualified teachers in these subject areas and to place them in high-need LEAs. Under the Government Performance and Results Act (GPRA), the following measures will be used by the Department in assessing the performance of the program.

(1) The percentage of program participants who earn a master's degree and certification or licensure in a science, technology, engineering, mathematics, or critical foreign language area (includes previously licensed teachers who receive a master's degree).

(2) The percentage of program participants who become or remain a teacher of record in a science, technology, engineering, mathematics, or critical foreign language area in a high-need school.

(3) The percentage of program participants who remain teaching in the science, technology, engineering, mathematics, or critical foreign language area in a high-need school for two or more years.

(4) The cost per program participant who remains in teaching in the science, technology, engineering, mathematics, or critical foreign language area in a high-need school for two or more years.

If funded, you will be asked to collect and report data on these measures in your project's annual performance report (EDGAR, 34 CFR 75.590). Applicants are also advised to consider these measures in conceptualizing the design, implementation, and evaluation of their proposed projects because of their importance in the application review process. Collection of data on these measures should be a part of the evaluation plan, along with measures of progress on goals and objectives that are specific to your project.

VII. Agency Contact

For Further Information Contact: Andrea Baird, Teachers for a Competitive Tomorrow: Programs for Master's Degrees in Science, Technology, Engineering, Mathematics, or Critical Foreign Language Education, U.S. Department of Education, 1990 K Street, NW., room 6143, Washington, DC 20006-8526. Telephone: (202) 502-7797 or e-mail andrea.baird@ed.gov.

If you use a TDD, call the FRS, toll free, at 1-800-877-8339.

VIII. Other Information

Accessible Format: Individuals with disabilities can obtain this document and a copy of the application package in an accessible format (e.g., braille, large print, audiotape, or computer diskette) on request to the program contact person listed under FOR FURTHER INFORMATION CONTACT in Section VII in this notice.

Electronic Access to This Document: You can view this document, as well as all other documents of this Department published in the Federal Register, in text or Adobe Portable Document Format (PDF) on the Internet at the following site: http://www.ed.gov/news/fedregister.

To use PDF, you must have Adobe Acrobat Reader, which is available free at this site.

Note: The official version of this document is the document published in the Federal Register. Free Internet access to the official edition of the Federal Register and the Code of Federal Regulations is available on GPO Access at: http://www.gpoaccess.gov/nara/index.html.

Delegation of Authority: The Secretary of Education has delegated authority to Daniel T. Madzelan, Director, Forecasting and Policy Analysis for the Office of Postsecondary Education, to perform the functions and duties of the Assistant Secretary for Postsecondary Education.

Dated: June 25, 2010.
Daniel T. Madzelan,
Director, Forecasting and Policy Analysis.

[FR Doc. 2010-15922 Filed 6-29-10; 8:45 am]

BILLING CODE 4000-01-P